DEPARTMENT OF THE INTERIOR

Fish and Wildlife Service

[FWS-R3-R-2009-N0023; 30136-1265-0000-S3]

Seney National Wildlife Refuge, Schoolcraft County, MI

AGENCY: Fish and Wildlife Service, Interior.

ACTION: Notice of availability: Final Comprehensive Conservation Plan and Finding of No Significant Impact for Environmental Assessment.

SUMMARY: We, the U.S. Fish and Wildlife Service (Service), announce the availability of the Final Comprehensive Conservation Plan (CCP) and Finding of No Significant Impact (FONSI) for the Environmental Assessment (EA) for Seney National Wildlife Refuge (NWR). Goals and objectives in the CCP describe how the agency intends to manage the refuge over the next 15 years.

ADDRESSES: Copies of the Final CCP and FONSI/EA may be viewed at the Seney National Wildlife Refuge Headquarters or at public libraries near the refuge. You may access and download a copy via the Planning Web site at http://www.fws.gov/midwest/Planning/Seney, or you may obtain a copy on compact disk by contacting: U.S. Fish and Wildlife Service, Division of Conservation Planning, Bishop Henry Whipple Federal Building, 1 Federal Drive, Fort Snelling, MN 55111 (1-800-247-1247, extension 5429), or Seney National Wildlife Refuge, 1674 Refuge Entrance Road, Seney, MI 49883 (906-586-9851). A limited number of hardcopies will be available for distribution at the Refuge Headquarters.

FOR FURTHER INFORMATION CONTACT: Greg McClellan (906-586-9851).

SUPPLEMENTARY INFORMATION:

Introduction

With this notice, we complete the CCP process for Seney NWR, which we began by publishing a notice of intent on April 21, 2006 (71 FR 20722). For more information about the initial process, see that notice. We released the draft CCP and EA to the public, announcing and requesting comments in a notice of availability on September 3, 2008 (73 FR 51506).

Seney NWR was established in 1935 by Executive Order under the Migratory Bird Conservation Act for the protection and production of migratory birds and other wildlife. The Refuge encompasses approximately 95,238 acres; 25,150 acres comprise the Seney Wilderness Area in which is contained the Strangmoor Bog National Natural Landmark. The Refuge is also responsible for the 33-acre Whitefish Point Unit, a former Coast Guard Station at Whitefish Point, in Chippewa County.

The Draft CCP/EA was released for public review September 3, 2008; the comment period lasted 35 days ending October 8, 2008. During the comment period the Refuge hosted an open house event. By the conclusion of the comment period we received 14 written responses from organizations and individuals. In response to these comments we made a number of minor edits to the final document.

Selected Alternative

After considering the comments received, we have selected Alternative 2 (Management Gradients) for implementation. Under the selected alternative the Refuge will strive to manage its forests and water to allow unfettered succession to take place. Dynamic events such as windstorms, insect and tree disease outbreaks, and flooding and wildfire will play a more substantial role in shaping habitats.

The major focus of the Refuge for the next 15 years will be on increasing biodiversity and regional resource conservation priority species habitat. The Refuge will be segmented into four general units with a management strategy tied to each unit. The units would follow a general gradient of management from low intensity (wilderness) to higher manipulation (managed impoundments and visitor use). The Refuge will also seek to increase wildlife-dependent public use opportunities.

Background

The National Wildlife Refuge System Administration Act of 1966, as amended by the National Wildlife Refuge System Improvement Act of 1997 (16 U.S.C. 668dd-668ee et seq.), requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation.

We will review and update the CCP at least every 15 years in accordance with the National Wildlife Refuge System Administration Act of 1966, as amended by the National Wildlife Refuge System Improvement Act of 1997, and the National Environmental Policy Act of 1969 (42 U.S.C. 4321-4370d).

Dated: March 12, 2009.
Charles M. Wooley,
Acting Regional Director, U.S. Fish and Wildlife Service, Fort Snelling, Minnesota.

[FR Doc. E9-12116 Filed 5-22-09; 8:45 am]

BILLING CODE 4310-55-P